DEPARTMENT OF THE INTERIOR

Bureau of Land Management

[CACA 49539, CACA 49537, LLCAD08000, L51030000]

Notice of Intent To Prepare an Environmental Impact Statement/Staff Assessment and Land Use Plan Amendment for the SES Solar One Project, San Bernardino County, CA

AGENCY: Bureau of Land Management, Interior.

ACTION: Notice of Intent.

SUMMARY: In compliance with the National Environmental Policy Act of 1969, as amended (NEPA), and the California Environmental Quality Act (CEQA), the Department of the Interior, Bureau of Land Management (BLM), together with the California Energy Commission, (hereinafter jointly referred to as the Agencies) intend to prepare an Environmental Impact Statement/Staff Assessment (EIS/SA), and a Proposed Land Use Plan Amendment for the Stirling Energy Systems (SES) Solar One Project (Project), a Stirling engine systems solar dish project in San Bernardino County, California. SES is seeking approval to construct and operate an electrical generating facility with a nominal capacity of 850 megawatts (MW), using concentrated solar thermal power. Approximately 8,230 acres of BLM administered public land are needed to develop the Project. SES has submitted an application to the BLM requesting a right-of-way (ROW) to construct the Project and related facilities. Pursuant to BLM's California Desert Conservation Area (CDCA) Plan (1980, as amended), sites associated with power generation or transmission not identified in the CDCA Plan will be considered through the plan amendment process.

Under Federal law, BLM is responsible for processing requests for rights-of-way to authorize solar projects and associated transmission lines and other appurtenant facilities on the land it manages. BLM must comply with the requirements of NEPA to ensure that environmental impacts associated with construction, operation, and decommissioning will be identified, analyzed and considered in the application process. This will be accomplished through preparation of Draft and Final Environmental Impact Statements (EIS) in coordination with the Energy Commission.

Under California law, the Energy Commission is responsible for reviewing the Application for Certification (AFC) filed for thermal power plants over 50 MW, and also has the role of lead agency for the environmental review of such projects under the CEQA (Pub. Res. Code, sections 21000 et seq., 25500 et seq.) The Energy Commission conducts this review in accordance with the administrative adjudication provisions of California's Administrative Procedure Act (Government Code section 11400 et seq.) and its own regulations governing site certification proceedings (Cal. Code Regs., tit. 20, section 1701 et seq.), which have been deemed CEQA equivalent by the Secretary of Resources. SES Solar One, LLC, has submitted an AFC to the Energy Commission. The AFC facilitates analysis and review by staff prior to an Energy Commission decision on the proposed project.

DATES: Publication of this notice initiates a public scoping period of at least 30 days. During the formal public scoping period, the Agencies will solicit public comments on issues, concerns, potential impacts, alternatives, and mitigation measures that should be considered in the analysis of the proposed action. In addition, the Agencies expect to hold one BLM public scoping meeting/Energy Commission information hearing during the formal scoping period to encourage public input. The public scoping meeting will be held in Barstow, California on June 22, 2009 with further details to be announced through the local news media, newspapers, mailings, the BLM Web page [http://www.ca.blm.gov/barstow] and the Energy Commission Web page [http://www.energy.ca.gov/sitingcases/solarone/] at least 15 days prior to the event. While you may have the opportunity to make oral comments at the June 22nd BLM public scoping meeting, written comments are strongly encouraged to be submitted. In order to be included in the Draft EIS/Preliminary Staff Assessment (DEIS/PSA), all comments must be received prior to the close of the formal scoping period which will be July 7, 2009. Additional opportunities for public participation and formal comment occur when the DEIS/PSA is issued. BLM will also utilize and coordinate the NEPA commenting process to satisfy the public involvement process for Section 106 of the National Historic Preservation Act (NHPA) (16 U.S.C. 470f) as provided for in 36 CFR 800.2(d)(3).

ADDRESSES:

• California Energy Commission: Christopher Meyer, Project Manager, Siting, Transmission and Environmental Protection Division, California Energy Commission, 1516 Ninth Street, MS-15, Sacramento, CA 95814 [cmeyer@energy.state.ca.us].

• Bureau of Land Management: Jim Stobaugh, P.O. Box 12000, Reno, NV 89520 or by phone, (775) 861-6478, or email [Jim_Stobaugh@blm.gov].

FOR FURTHER INFORMATION CONTACT:

Jim Stobaugh, BLM project manager, at (775) 861-6478. See also ADDRESSES, above.

Christopher Meyer, Energy Commission project manager, at (916) 653-1639. See also ADDRESSES.

Information on participating in the Commission's review of the project may be obtained through the Commission's Public Adviser's Office, at (916) 654-4489 or toll free in California, (800) 822-6228, or by email: [publicadviser@energy.state.ca.us]

News media inquiries should be directed to the Commission's media office at (916) 654-4989, or via email at [mediaoffice@energy.state.ca.us].

Status of the proposed project, copies of notices, an electronic version of the AFC, and other relevant documents are also available on the Commission's Internet Web site at [http://www.energy.ca.gov/sitingcases/solarone]. You can also subscribe to receive email notification of all notices at [http://www.energy.ca.gov/listservers].

SUPPLEMENTARY INFORMATION: Stirling Energy Systems (SES) formed limited liability corporations (LLC) for three applications to develop solar energy facilities in three adjacent areas along Interstate 40 between Newberry Springs and Hector, CA. Two of these adjacent applicants, SES Solar Three, LLC and SES Solar Six, LLC, have applied to BLM for rights-of-way (ROW) on public lands to construct a concentrated solar thermal power plant facility (Phase 1 and Phase 2 of the proposed Solar One project). The eastern portion of the proposed Solar One Project Area was subsequently withdrawn from application because it was located within the Pisgah Area of Critical Environmental Concern. The reduction of this land from the Solar One project area and the recognition of the value of development of the project adjacent to existing transmission lines first, resulted in SES combining the Solar Three LLC and Solar Six LLC application areas under one project area to meet its overall goal of an 850 MW solar facility at this site. For purposes of the filings, Solar Three, LLC and Solar Six, LLC are considered the “Applicant.” The name of the proposed project is the Solar One Project.

The proposed Solar One Project would be constructed on an approximate 8,230-acre site located in San Bernardino County, California. The project site is approximately 37 miles east of Barstow, 17 miles east of Newberry Springs, 57 miles northeast of Victorville, and approximately 115 miles east of Los Angeles. The proposed SES Solar One Project would be a nominal 850-megawatt (MW) Stirling engine project, with construction planned to begin in late 2010 if the project is approved by the Energy Commission and rights-of way grants are issued by the BLM. Although construction would take approximately 40 months to complete, renewable power would be available to the grid as each 60-unit group is completed. The primary equipment for the generating facility would include the 25-kilowatt Stirling solar dish systems (referred to as SunCatchers), their associated equipment and systems, and their support infrastructure. Each SunCatcher consists of a solar receiver heat exchanger and a closed-cycle, high-efficiency Solar Stirling Engine specifically designed to convert solar power to rotary power then driving an electrical generator to produce grid-quality electricity.

The facility would be built in two phases and would be expected to operate for approximately 20 years based on the Purchase Power Agreement signed by SES with Southern California Edison (SCE). The first phase would consist of up to 20,000 SunCatchers configured in 334 units, with 1.5 MW solar groups of 60 SunCatchers per unit and have a net nominal generating capacity of 500 MW on 5,838 acres of Federal lands. The second phase would consist of approximately 14,000 SunCatchers configured in 233 units with a net generating capacity of 350 MW on 2,392 acres of Federal lands. Each SunCatcher system consists of an approximate 38-foot high by 40-foot wide solar concentrator dish that supports an array of curved glass mirror facets designed to automatically track the sun and focus solar energy onto a power conversion unit which generates electricity.

Related structures for the project would include the construction of a new 230-kV substation located approximately in the center of the project site. This new substation would be connected to the existing SCE Pisgah Substation adjacent to the project site via approximately two miles of single-circuit, 230-kV transmission line. Other than this interconnection transmission line that will be constructed by SES, the proposed project would require SCE to expand and upgrade the existing 230-kV SCE Pisgah Substation to support the increase in voltage to 500-kV, loop the Eldorado-Lugo 500-kV line into the SCE Pisgah Substation and demolish 65 miles of the existing Lugo-Pisgah No.2 230-kV transmission and replace it with towers and conductor. In addition, modifications within the SCE Eldorado and Lugo substations will be required.

SCE proposes to construct the new Lugo-Pisgah No.2 500-kV transmission line for 57 of the 67 miles needed for the upgrade from the existing Pisgah substation to the Victorville substation within the existing ROW of the 230-kV transmission line that would be replaced and upgraded.

The last 10 miles of this new Lugo-Pisgah No. 2 500-kV line to the Victorville substation, located south of Victorville would be constructed within a new ROW area.

The EIS/SA will analyze the site-specific impacts on air quality, biological resources, cultural resources, water resources, geological resources and hazards, hazardous materials handling, land use, noise, paleontological resources, public health, socioeconomics, soils, traffic and transportation, visual resources, waste management and worker safety and fire protection, as well as facility design engineering, efficiency, reliability, transmission system engineering and transmission line safety and nuisance. The BLM CDCA Plan of 1980, as amended, while recognizing the potential compatibility of solar generation facilities on public lands, requires that all sites associated with power generation or transmission not identified in the 1980 Plan will be considered through the plan amendment process.

The following planning criteria will be utilized during the plan amendment process:

• The plan amendment process will be completed in compliance with FLPMA, NEPA, and all other relevant Federal laws, Executive orders, and management policies of the BLM;

• The plan amendment process will include an EIS that will comply with NEPA standards;

• Where existing planning decisions are determined to be valid, those decisions will remain unchanged and will be incorporated into any new plan amendment;

• The plan amendment will recognize valid existing rights;

• Native American Tribal consultations will be conducted in accordance with policy and Tribal concerns will be given due consideration. The plan amendment process will include the consideration of any impacts on Indian trust assets;

• Consultation with the SHPO will be conducted throughout the plan amendment process; and

• Consultation with USFWS will be conducted throughout the plan amendment process.

If the ROW and proposed land use plan amendment are approved by BLM, the concentrated solar thermal power plant facility on public lands would be authorized in accordance with Title V of the Federal Land Policy and Management Act of 1976 and the BLM's ROW Regulations at 43 CFR part 2800. A certificate designating approval of the Energy Commission must be obtained by SES before it may construct a power plant and/or electric transmission line and related facilities.

You may submit comments on issues and planning criteria in writing at the public scoping meeting, or you may submit them via e-mail (see ADDRESSES section above). To be most helpful, you should submit comments within 30 days after the public scoping meeting. Before including your address, phone number, email address, or other personal identifying information in your comment, you should be aware that your entire comment—including your personal identifying information—may be made publicly available at any time. While you can ask us in your comment to withhold your personal identifying information from public review, we cannot guarantee that we will be able to do so.

Robert Doyel,
Acting Deputy State Director for Natural Resources, California State Office.

[FR Doc. E9-13320 Filed 6-5-09; 8:45 am]

BILLING CODE 4310-40-P